FEDERAL COMMUNICATIONS COMMISSION

47 CFR Parts 1 and 73

[MB Docket No. 17-106; FCC 17-137]

Elimination of Main Studio Rule

AGENCY: Federal Communications Commission.

ACTION: Final rule.

SUMMARY: In this document, the Federal Communications Commission (FCC or Commission) eliminates the rule that requires each AM, FM, and television broadcast station to maintain a main studio located in or near its community of license. The FCC also eliminates existing requirements associated with the rule, including the requirement that the main studio have full-time management and staff present during normal business hours, and that it have program origination capability.

DATES: Effective January 8, 2018, except for §§ 73.3526(c)(1) and 73.3527(c)(1), which contain new or modified information collection requirements, and which shall become effective after the Commission publishes a document in the Federal Register announcing OMB approval and the relevant effective date.

FOR FURTHER INFORMATION CONTACT: For additional information on this proceeding, contact Diana Sokolow, Diana.Sokolow@fcc.gov, of the Policy Division, Media Bureau, (202) 418-2120.

SUPPLEMENTARY INFORMATION: This is a summary of the Commission's Report and Order (R&O), FCC 17-137, adopted and released on October 24, 2017. The full text of this document is available for public inspection and copying during regular business hours in the FCC Reference Center, Federal Communications Commission, 445 12th Street SW., Room CY-A257, Washington, DC 20554. This document will also be available via ECFS at http://fjallfoss.fcc.gov/ecfs/. Documents will be available electronically in ASCII, Microsoft Word, and/or Adobe Acrobat. Copies of the materials can be obtained from the FCC's Reference Information Center at (202) 418-0270. Alternative formats are available for people with disabilities (Braille, large print, electronic files, audio format), by sending an email to fcc504@fcc.gov or calling the Commission's Consumer and Governmental Affairs Bureau at (202) 418-0530 (voice), (202) 418-0432 (TTY).

Synopsis

1. The Commission in this R&O adopts the proposal in the Notice of Proposed Rulemaking (NPRM), 82 FR 25590 (June 2, 2017), to eliminate the Commission rule requiring AM, FM, and television broadcast stations to maintain a local main studio.¹ We also adopt the proposal to eliminate the associated staffing and program origination capability requirements that apply to main studios. To ensure that community members retain the ability to communicate with and obtain information regarding their local stations, we retain the existing requirement that broadcasters maintain a local or toll-free telephone number. We also require stations to maintain any portion of their public file that is not part of the online public file at a publicly accessible location within the station's community of license. Finally, we make conforming edits to other Commission rules that are necessitated by the elimination of the main studio rule.

¹ Because we are eliminating the main studio rule, we need not address one commenter's argument that the current main studio rule is unenforceable under the Administrative Procedure Act. We also decline to address herein arguments that are outside the scope of this proceeding, which is limited to elimination of the main studio rule and the associated staffing and program origination capability requirements.

2. We agree with the vast majority of commenters ² in this proceeding that the main studio rule should be eliminated. We are persuaded that eliminating the rule will result in significant cost savings for broadcasters and other public interest benefits. For example, the record shows that in some small towns and rural areas the cost of complying with the current main studio rule dissuades broadcasters from launching a station, even if the broadcaster has already obtained a construction permit for the station. Eliminating the rule thus may lead to increased broadcast service in those areas. In addition, as commenters suggest, eliminating the main studio rule will provide broadcasters with the same flexibility as Internet radio stations and cable and satellite providers, none of which are subject to a main studio requirement. While we recognize the importance of local broadcast television and radio stations as a source of news and information, we agree with NAB that the record does not provide any “evidence that the physical location of a station's main studio is the reason local broadcasters are able to deliver content that meets the needs and interest[s] of their communities, or that the location and staffing of the studio has any relationship to the ability of a station to serve its local audience.”

² Contrary to the suggestion of Common Frequency, the ample record in this proceeding provides the Commission with sufficient information to proceed to this R&O.

3. We affirm the tentative conclusion in the NPRM that technological innovations have rendered local studios unnecessary as a means for viewers and listeners to communicate with or access their local stations and to carry out the other traditional functions that they have served. The record shows that it is exceedingly rare for a member of the public to visit a station's main studio, with community members overwhelmingly choosing instead to communicate with stations through more efficient means such as email, station Web sites, social media, mail, or telephone.³ This has been the case even more so since the Commission created the online public inspection file. Once broadcasters fully transition to the online public file in early 2018, requiring stations to maintain a fully staffed main studio for purposes of providing access to the file will no longer be practical or justifiable. It is also relevant that community members already participate in station shows from outside the main studio, for example by appearing via telephone or Skype. As some commenters state, in-person visits from community members are now “unnecessary, if not obsolete,” as a result of the “near ubiquity of remote communication.” ⁴

³ Although broadcast licensees are obligated to serve “the public interest, convenience, and necessity,” we find that “convenience” need not include reasonable physical access to the station's facilities in the community of license, contrary to the suggestion of one commenter, given how rarely community members today opt to access such facilities.

⁴ In addition, some commenters point to the legitimate public safety concerns that are associated with allowing uninvited members of the public to visit a station's main studio.

4. We disagree with arguments that in the absence of a local main studio, the Commission will be unable to ensure that a station serves its local community. Broadcast licensees still will be required to include in their public inspection files, on a quarterly basis, a list of those “programs that have provided the station's most significant treatment of community issues during the preceding three month period,” including a brief description of each relevant program. Further, as part of the broadcast station license renewal process, the Commission is required to find that “the station has served the public interest, convenience, and necessity” during its preceding license term. In particular, “[o]ne of a television broadcaster's fundamental public interest obligations is to air programming responsive to the needs and interests of its community of license.”

5. We also are not persuaded by contentions that broadcasters' local community involvement or the provision of local news will significantly decline if we eliminate the main studio rule. Broadcast commenters explain that they keep apprised of local needs and issues to distinguish themselves from their competitors, to gain popularity and thus advertising dollars or, in the case of noncommercial educational (NCE) stations, contributions, and to fulfill their public interest obligations.⁵ Broadcasters will retain these incentives even in the absence of the main studio rule.⁶ In addition, we agree with Univision that today, “providing service to, interacting with, and maintaining awareness of a community is not dependent upon locating a station's offices within certain arbitrary geographic boundaries imposed by the” main studio rule. To the contrary, broadcasters can interact with local community members by using technology such as social media, and even without a local main studio, broadcasters can use modern technology to broadcast information about local events. The main studio rule does not require broadcasters to provide any particular level of local coverage or involvement in the local community, and there is no evidence in the record that elimination of this rule will cause a decrease in such involvement or coverage.

⁵ We note that the main studio rule does not require broadcasters to provide coverage of their local communities; rather, the rule simply governs the permissible location of a station's main studio.

⁶ The record suggests that not all stations will choose to eliminate their current main studios after the main studio rule is repealed. Those stations that do choose to eliminate their current main studios likely will often maintain an office or studio that is convenient to their viewers or listeners, so that, among other things, community members can appear in person to serve as on-air guests or attend in-studio events, and so that contest prize winners can visit the station to retrieve their prizes.

6. We reject claims that the elimination of the main studio rule will have a negative impact on broadcasters' ability to broadcast emergency and time-sensitive information. One commenter explains that in terms of “a station's ability to communicate time-sensitive or emergency information to the public,” today telephone and Internet communications are more efficient than an in-person interaction at a local studio. In furtherance of their obligation to serve their communities of license, commenters state that broadcasters will continue providing timely emergency information to their viewers and listeners. Additionally, we note that the elimination of the main studio rule will not in any way alter a station's obligations to transmit emergency alerts received via the emergency alert system (EAS).⁷

⁷ As explained below, broadcasters already have processes in place to ensure that they are responsive to emergency situations.

7. Because we find that technological innovations have eliminated the need for a local main studio, the costs of complying with the main studio rule substantially outweigh any benefits.⁸ Broadcasters detail the significant costs that they face under the main studio rule, including such expenses as: (a) Rent, utilities, insurance, and maintenance costs for the studio itself; (b) equipment and transmission facilities; and (c) salaries, taxes, insurance, and benefits for the main studio's two full-time employees. Broadcasters claim that main studio-related costs range from $20,000 per year to several hundred thousand dollars per year.⁹ One broadcaster states that it could consolidate main studios and save more than $10 million annually. The main studio rule imposes significant and burdensome costs on broadcasters, particularly smaller broadcasters and NCE stations.¹⁰

⁸ This rationale for eliminating the main studio rule applies to all broadcast stations, and we thus will eliminate the rule in its entirety rather than eliminating it only for a certain subset of stations.

⁹ Due to the specific information broadcasters have provided regarding costs of compliance with the current main studio rule and associated requirements, we are not persuaded by commenters' unsupported arguments that maintaining a local main studio “has never been more affordable” and that broadcasters do not need relief from the Commission in this regard.

¹⁰ Some commenters claim, without evidence, that small and independent broadcasters will not benefit from the elimination of the main studio rule because they likely will not relocate their existing studios and will become unable to compete against consolidated multi-station broadcasters. The fact-based statements of small broadcasters in this proceeding, detailing the costs of compliance with the main studio rule and the potential benefits to them of the elimination of the rule, belie these claims.

8. The cost savings broadcasters may achieve following elimination of the main studio rule will enable them to allocate greater resources to local programming and other matters such as community outreach, newsgathering, equipment upgrades, and attracting new talent and personnel. According to some commenters, such savings could even prevent some stations from going dark. Stations will have the flexibility to operate studios in the most efficient manner, and some stations that are co-owned or jointly operated may find it to be more efficient for them to co-locate their studios.¹¹ We conclude that providing stations with the maximum flexibility by eliminating the main studio rule in its entirety is preferable to the more limited approaches proposed by some commenters, which could still impose significant cost burdens on some stations and would not entirely address concerns that the costs of complying with the main studio rule are no longer justified today.

¹¹ Contrary to the suggestion of one commenter, we see no evidence in the record that any broadcast station would attempt to move its studio outside of this country, and we question whether doing so would be feasible or economical.

9. Eliminating the main studio rule and associated requirements is not inconsistent with section 307(b) of the Communications Act of 1934, as amended (the Act), which requires the Commission to “make such distribution of licenses, frequencies, hours of operation, and of power among the several States and communities as to provide for a fair, efficient, and equitable distribution of radio service to each of the same.” In the absence of the main studio rule, broadcast stations still will be licensed to a specific community of license, and they will be obligated to place a certain signal contour over that community. As noted above, broadcasters also will remain subject to license renewal and quarterly issues/programs list requirements. Moreover, programming designed to meet a community's needs and interests can be produced anywhere today. For the reasons discussed herein, the record supports our finding that a local main studio is no longer necessary to ensure that broadcast stations serve their local communities,¹² and thus eliminating the main studio requirement will not prevent compliance with the distribution directive in section 307(b) of the Act.

¹² We thus reject claims that the main studio rule is still needed to meet the obligations in section 307(b) of the Act. In addition, we agree with NAB that any assertion that the main studio rule is needed to enforce the “transmission service” requirement is misplaced because “[t]he Commission effectively abandoned this definition of transmission service when it eliminated the program origination requirement.”

10. We note that the Commission or Media Bureau has previously granted waivers of the main studio rule. Our decision to eliminate the main studio requirement supersedes these waiver grants, including pledges that the licensees made in connection with those waivers, with one exception discussed below.¹³ Accordingly, as of the effective date of the rules adopted in this R&O, stations that have previously received a waiver of the main studio rule must comply with the Commission's rules, including the requirement to maintain a local or toll-free number, rather than the licensee pledges, if any, associated with their superseded waiver grants. Upon the elimination of the main studio rule, it would not make sense to continue subjecting stations to the commitments they made in obtaining a waiver of the main studio rule, including any related recordkeeping requirements.

¹³ The main studio waiver grants are superseded by this R&O because there will no longer be a main studio rule to be waived. Given that waivers of the main studio rule will no longer be necessary, we need not address one commenter's claim that the current waiver process leads to an unfair and inefficient distribution of radio services. Below we explain one type of main studio waiver for which we will grandfather the station's current main studio as a permissible location for its local public file.

11. In addition to eliminating the main studio rule itself, we adopt our NPRM proposal to eliminate the staffing requirements currently associated with the rule. This will provide broadcasters with more flexibility to staff their operations as they see fit. Pursuant to Commission precedent, there currently must be two employees (one management and one staff) present on a full-time basis at a main studio during normal business hours. Given the technological advances that enable remote monitoring and control of broadcast stations, commenters attest that some main studio employees have nothing to do but sit at the main studio in fulfillment of this requirement. Commenters persuasively state that it can be difficult for small or rural stations and for financially-challenged AM stations to support two full-time employees. For example, station KIHT(FM) is licensed to Amboy, California (population: four) and serves motorists traveling through the Mojave Desert. One employee travels over an hour each way each day to staff the main studio.

12. We find that decisions regarding location and number of staff members should be left to broadcast licensees.¹⁴ Although we acknowledge that elimination of the main studio staffing requirement possibly could lead to fewer employees available to interact person to person at the physical station office, we have explained above that technology enables broadcasters to interact with the local community and to broadcast information about local events even without a local main studio. Eliminating the main studio requirement and associated staffing requirement promotes our statutory goals by allowing broadcasters to allocate greater resources to programming and other matters, promoting increased broadcast service in small towns and rural areas, and preventing stations from going dark. To the extent commenters express concerns about potential job loss following the elimination of the main studio rule and the associated staffing requirement, we do not believe we are required to disregard our statutory goals to prevent such loss. Further, preventing stations from going dark and enabling broadcasters to launch stations that they otherwise may not launch may promote employment.

¹⁴ We caution that the deletion of the main studio rule does not in any way limit or reduce broadcast licensees' obligation and responsibility to retain and maintain control over essential station matters, such as personnel, programming, and finances. The Commission expects that broadcast licensees will continue to be able to demonstrate such control notwithstanding the elimination of the main studio rule and the staffing requirements associated with the main studio rule.

13. In addition to the foregoing, we also adopt our NPRM proposal to eliminate the program origination capability requirement currently associated with the main studio rule. This will provide broadcasters greater flexibility with respect to their programming operations. Pursuant to Commission precedent, the main studio currently must be capable of transmitting programming and must be equipped with production and transmission facilities. When the Commission decided thirty years ago to eliminate its rule requiring stations to actually originate programming at their main studios, it concluded that “the main studio no longer plays the central role in the production of a station's programming and programming originated from within the political boundaries of the community is not necessarily responsive to the needs and interests of the community.” ¹⁵ Conversely, the Commission has recognized for decades that non-locally produced programming can serve the needs of a community. Those statements are only more true today. Technology makes it easier than ever before to originate locally relevant programming from locations outside of the station's community of license, and the existence of technology that enables stations to provide local broadcast coverage without a local main studio also moots concerns that licensees need a local main studio to broadcast emergency information.

¹⁵ In that order, the Commission recognized the limited utility of the program origination requirement by deleting its rule requiring each broadcast station to originate more than 50 percent of its non-network programs from its main studio or other points within its community of license.

14. There is no evidence in the record that the current program origination capability requirement has enhanced local programming or otherwise served the public interest. Commenters state that many broadcasters that currently originate programming locally will continue to do so in the absence of the current program origination capability requirement. In any case, it appears that the location from which programming is originated is irrelevant to whether the programing serves a community's needs and interests. We agree with broadcast commenters “that a licensee's understanding of the needs and concerns of its station's audience,” not the physical location of its studio or program production equipment, “promotes the broadcast of issue-responsive programming.” ¹⁶

¹⁶ For this reason, we reject the assertion that a main studio's most important function is program origination capability.

15. As proposed in the NPRM, we retain § 73.1125(e) of our rules, which requires “[e]ach AM, FM, TV and Class A TV broadcast station [to] maintain a local telephone number in its community of license or a toll-free number.” NAB supports this requirement, which it says “keep[s] the community well-informed and [is] not unduly burdensome.” The telephone number rule permits station owners to provide one telephone number for multiple stations, provided that the number is toll-free or local to each station's community of license.¹⁷ Some consumers are subject to an additional fee for non-local calls, and we thus retain the requirement for a local or toll-free number. Retaining the telephone number rule will help promote continued access to local broadcast stations by community members upon elimination of the main studio rule.¹⁸ We find that retaining the existing rule is an appropriate means to ensure that members of the public can easily contact station representatives and receive timely responses.¹⁹

¹⁷ Implicit in the requirement to maintain a local or toll-free number is the requirement that phone calls made to this number be answered during business hours. We encourage broadcasters to use voicemail or another way for consumers to leave messages outside of stations' normal business hours.

¹⁸ We recognize that there is some cost to stations of maintaining a local or toll-free telephone number, but we find that on balance the relatively limited cost is outweighed by the benefit of ensuring that the station remains accessible to local community members.

¹⁹ NFIB has proposed instead that the Commission adopt a functional requirement that each station “ensure that persons in its community of license have a reasonable opportunity to communicate with the station through at least one generally available means of communication at no charge.” We find that such an approach would be unworkable for consumers who do not use email and thus would have no way to contact a station if the station eliminates its local main studio. Accordingly, maintenance of the current telephone number requirement is a more practical approach.

16. Stations currently are required to post their telephone numbers in their online public files.²⁰ We retain that requirement and do not require stations to publicize their phone numbers in any additional ways. We agree with commenters that broadcasters have extensive marketplace incentives and license obligations to be accessible and responsive to their audience, and we note that telephone numbers by their nature generally are accessible in other ways. Broadcasters will retain the flexibility to determine whether they want to publicize their telephone numbers in additional ways. For example, most stations already choose to post their telephone numbers on their Web sites.

²⁰ These rules also currently require a station to include its main studio address, and as discussed below we modify them to require the public file to include the station's address (rather than its main studio address). The posted address should be a location at which the licensee may be contacted by mail and in person, for example, a studio, office, or headquarters.

17. Furthermore, in the NPRM, the Commission sought comment on whether additional requirements are needed to ensure that broadcasters are responsive to time-sensitive and emergency information. Because broadcasters already coordinate with federal, state, and local emergency management officials, as well as law enforcement officials, to address emergencies that occur at any time of day, we conclude that there is no need to adopt additional requirements pertaining to broadcast station responsiveness to time-sensitive or emergency information.²¹ While some commenters reference such requirements, other commenters persuasively explain that broadcasters already have processes in place to ensure that station personnel are available to receive and broadcast time-sensitive emergency information. On balance, we conclude that the adoption of additional rules would not necessarily improve broadcasters' responsiveness to local emergencies, and we thus find that there is no evidence that the cost of such obligations would be justified by any purported benefits.

²¹ Nothing in this R&O is intended to alter the obligation on licensees to post a written document designating the station's Chief Operator along with the posted copy of the station's license, as set forth in 47 CFR 73.1870(b)(3).

18. As discussed below, and as supported by NAB and other broadcasters, we require every broadcast station applicant, permittee, or licensee to maintain any portion of its public file that is not part of the online public file at an accessible place within its community of license. Pursuant to the Commission's online public file rules, in the very near future there will be only limited instances in which any portion of a station's public inspection file will be permitted to be maintained at the station's main studio rather than online.²² In 2012, the Commission adopted rules requiring television broadcasters to utilize an online public file hosted by the Commission, rather than maintaining the public file locally, and television stations completed their transition to the online public file in 2014. In 2016, the Commission adopted rules expanding the online public file requirement to broadcast radio licensees. As of June 24, 2016, commercial broadcast radio stations in the top 50 Nielsen Audio radio markets with five or more full-time employees were required to place new public and political file documents in the online public file on a going-forward basis. By December 24, 2016, these entities were required to upload their existing public file documents to the online file, except for existing political file material which they may either upload or maintain locally until the expiration of the two-year retention period for such political file material. Beginning March 1, 2018, all other broadcast radio stations ²³ must place new public and political file documents in the online public file on a going-forward basis. They must also upload their existing public file documents to the online file by that date, except for existing political file material which they may either upload or maintain locally until the expiration of the two-year retention period for such political file material. In other words, community members already have online access to television station public files, and by March 1, 2018 they will have online access to radio station public files, with the potential exception of preexisting portions of the political file that the station may retain locally until the expiration of the two-year retention period for such materials.

²² Sections 73.3526(e) and 73.3527(e) of the Commission's rules set forth the required contents of the station's public inspection file. These contents include the “political file,” which consists of the records required to be maintained under § 73.1943 of our rules concerning broadcasts by candidates for public office.

²³ This includes NCE broadcast radio stations, commercial broadcast radio stations in the top 50 Nielsen Audio radio markets with fewer than five full-time employees, and commercial broadcast radio stations in markets below the top 50 or outside all markets.

19. Nonetheless, we recognize the need to ensure that community members have local access to a station's public file for any timeframe during which all or a portion of that file is not available via the online public file. Accordingly, we require every broadcast station applicant, permittee, or licensee to maintain any portion of its public file that is not part of the online public file at an accessible place within its community of license. NAB and other broadcasters support this approach. The “accessible place” could be a station office or studio, if it is located within the community of license, or it could be a different location such as a local library or another station's office or studio. The file must be available for public inspection at any time during regular business hours, as is currently the case with regard to access to a public file maintained at a station's main studio.²⁴ If a station has transitioned to the online public file with the exception of its existing political file materials, which certain stations may maintain locally until the two-year retention period expires as discussed above, then the station must maintain a copy of its existing political file materials at an accessible place within its community of license until it is no longer required to retain those materials.²⁵ We note that any station that wishes to avoid this requirement has the option to instead fully transition to the Commission's online public file system.

²⁴ The other requirements of existing §§ 73.3526(c)(1) and 73.3527(c)(1) of our rules also will apply to the selected location of the public file within the community of license. Sections 73.3526(b) and 73.3527(b) of our rules currently contain multiple references to the hard copy public inspection file maintained at a station or at the station's main studio, and we will revise this language instead to reference retention of the file at an accessible place in the community of license (with the exception of references that are limited to timeframes in the past).

²⁵ Urban One states, “a radio station that has voluntarily uploaded all political materials that are required to be maintained to its online file should have no obligation to make public file material available other than online.” As explained above, certain stations may locally retain political file materials that were existing as of a certain date, rather than uploading them to the online public file, until the expiration of the two-year retention period for those materials. To the extent Urban One is arguing that we should permit stations to include new political file materials in the online public file, but not to make existing political file materials available either locally or through the online public file, we disagree. To the contrary, we find that it is important to ensure that community members have local access to all portions of the public inspection file that are not part of the online public file. If it is too inconvenient or costly to maintain these materials locally, then a station may choose to post them to the online public file instead. In addition, we note that a change to the material that is required to be part of a station's public file is outside the scope of this proceeding.

20. In addition, if a broadcast station currently maintains its local public file at a main studio that complies with the current main studio rule but is not within the station's community of license, and if the station retains that studio, we will grandfather that studio as a permissible location for the station's local public file for the period before completion of the station's transition to the online public file.²⁶ Similarly, some existing waivers of the main studio rule permit stations to maintain their public files at the station's main studio outside the community of license.²⁷ We also will grandfather any such studio as a permissible location for the station's local public file for the period before completion of the station's transition to the online public file. This approach will ensure that stations with current waivers do not face increased burdens as a result of the elimination of the main studio rule.

²⁶ Sections 73.3526(c)(2) and 73.3527(c)(2) of our rules currently govern access to material in the public file by mail where the applicant, permittee, or licensee maintains its main studio and public file outside its community of license. These current rules will remain in place, but we will delete the phrase “main studio and,” such that the provisions will be triggered if an applicant, permittee, or licensee maintains its public file outside its community of license because the station's studio is grandfathered as a permissible location for the file, as discussed herein.

²⁷ Some main studio waivers reference a licensee pledge to maintain the public file in the community of license, while others permit the licensee to maintain the public file at the main studio subject to the waiver.

21. A community member seeking access to a station's public inspection file in the community of license may contact the station to inquire as to the location of the file, for example via its required telephone number or email. Stations must promptly provide information regarding the location of the file within one business day of a request. In addition, we encourage stations that make public file materials available at an accessible place in the community to provide that location on their Web site, if they have a Web site, and by any other means that the station deems effective.

22. In the NPRM, the Commission sought comment on whether alternatively it should only eliminate the main studio rule for stations that have fully transitioned all public file material to the online public file, including existing political file materials. While some commenters support this alternate approach, we agree with NAB that we should not limit in this manner the public interest benefits that will follow the elimination of the main studio rule.²⁸ The later March 1, 2018 online public file deadline generally applies to smaller stations.²⁹ Some of these entities may be most adversely impacted by the costs of complying with the current main studio rule, and we conclude that we should not disadvantage them by denying them the benefits of the repeal of the rule. As discussed above, the costs savings of eliminating the rule will be significant and will apply to all types of broadcast stations. Given our decision to require maintenance of paper files at an accessible location in the community if they are not available via the online public file, the benefits of retaining the main studio rule for those stations that do not use the online public file would be minimal, if they exist at all. Indeed, in many cases the station may locate its file at its current main studio, and in other cases we expect that the selected local file location will be equally, if not more, convenient to residents as compared to the station's current main studio. For example, if a station previously maintained its main studio outside of its community of license, as permitted under the current rule, and the station chooses to cease operating that local studio as a result of this R&O, then it may be more convenient for community members to access the local file at a location within the community of license, as we require here.

²⁸ In addition, we will not adopt the proposal of one commenter that we only permit stations to eliminate their current main studios if they make their public file available both online and at a business or library in the station's community of license. Given that it is sufficient for a station currently to make its public file available online only, we see no reason to require an additional means of access if the station eliminates its current main studio and its entire public file is available through the Commission's online public file.

²⁹ The deadline applies to NCE broadcast radio stations, commercial broadcast radio stations in the top 50 Nielsen Audio radio markets with fewer than five full-time employees, and commercial broadcast radio stations in markets below the top 50 or outside all markets.

23. As a result of our repeal of the main studio rule, we also will make the following conforming rule revisions as shown in the Final Rules:

• In § 1.80, delete the row of the chart detailing the base forfeiture amount for violations of the main studio rule.³⁰

³⁰ We will continue to rely on the base forfeiture amount of $7000 as a starting point in assessing a forfeiture for any violations of the main studio rule that occurred before the effective date of the elimination of the rule.

• In § 1.1104, delete the four rows detailing the schedule of charges for a “Main Studio Request,” and re-letter the remaining listings accordingly.

• In the definition of “equipment performance measurements” in § 73.14 of our rules, delete “at main studio.”

• Delete § 73.761(d) of our rules, which currently governs formal applications for a change in main studio location, and renumber the remainder of the rule.

• In § 73.1400(a)(1)(ii) of our rules, change the reference to “the main studio or other location” to “a studio or other location.”

• Delete § 73.1690(c)(8)(ii) of our rules, which currently states that both commercial and NCE FM stations must comply with the main studio rule, and renumber the remainder of the rule.

• Delete § 73.1690(d)(1) of our rules, which currently governs permissive changes in studio location, and renumber the remainder of the rule.

• Modify §§ 73.3526(b)(2)(ii) and 73.3527(b)(2)(iii) of our rules, which currently require the public file to include the station's main studio address and telephone number, instead to require the public file to include the station's address and telephone number.³¹

³¹ As stated above, the posted address should be a location at which the licensee may be contacted by mail and in person, for example, a studio, office, or headquarters.

• Delete the reference to “main studio” in §§ 73.3526(e)(4) and 73.3527(e)(3) of our rules, which currently require inclusion of information showing service contours and/or main studio and transmitter location in the public file.

• Delete § 73.3538(b)(2) of our rules, which currently governs informal applications to relocate a main studio, and renumber the remainder of the rule.

• Delete § 73.3544(b)(3) of our rules, which currently governs informal applications for a change in location of the main studio, and renumber the remainder of the rule.³²

³² We also adopt the proposal to delete the outdated reference in § 73.1690(d)(2) to § 73.1410, which has been deleted.

• In the alphabetical index to part 73, delete the four rows that reference § 73.1125.

24. We also will delete § 73.6000(3) of our rules and will require Class A stations to meet the required quantity of “locally produced programming” through programming that complies with § 73.6000(1) or (2). Consistent with the Community Broadcasters Protection Act of 1999, § 73.6001(b)(2) requires Class A stations to broadcast an average of at least three hours of locally produced programming per week each quarter. Section 73.6000 defines locally produced programming for these purposes as programming that is:

(1) Produced within the predicted Grade B contour of the station broadcasting the program or within the contiguous predicted Grade B contours of any of the stations in a commonly owned group; or

(2) Produced within the predicted DTV noise-limited contour . . . of a digital Class A station broadcasting the program or within the contiguous predicted DTV noise-limited contours of any of the digital Class A stations in a commonly owned group; or

(3) Programming produced at the station's main studio.

Upon deletion of the main studio rule, we find that it is appropriate to delete option (3). Options (1) and (2) are sufficiently broad that it should not be difficult for Class A stations to meet the required quantity of locally produced programming.³³ Our approach will alleviate the concern of Free Press that eliminating the main studio rule would “effectively nullify” the Class A requirement pertaining to the quantity of locally produced programming.

³³ The Commission grandfathered certain main studios that did not comply with the main studio rule when it implemented the Community Broadcasters Protection Act of 1999 creating the Class A service. For those Class A stations currently operating at grandfathered main studios that are outside the locations described in § 73.6000(1)-(2) of our rules, we will continue to consider programming produced at that previously grandfathered main studio to be locally produced.

25. As required by the Regulatory Flexibility Act of 1980, as amended (RFA), an Initial Regulatory Flexibility Analysis (IRFA) was incorporated in the NPRM. The Commission sought written public comments on proposals in the NPRM, including comment on the IRFA. The Commission received no comments on the IRFA, although some commenters discussed the effect of the proposals on smaller entities. The present Final Regulatory Flexibility Analysis (FRFA) conforms to the RFA. In summary, the R&O adopts the proposal to eliminate the Commission's main studio rule and existing requirements associated with the main studio rule. The R&O is authorized pursuant to sections 4(i), 4(j), 303, 307(b), and 336(f) of the Communications Act of 1934, as amended, 47 U.S.C. 154(i), 154(j), 303, 307(b), 336(f). The types of small entities that may be affected by the R&O fall within the following categories: Television Broadcasting, Radio Stations. The projected reporting, recordkeeping, and other compliance requirements are: (1) The elimination of the rule requiring each AM, FM, and television broadcast station to maintain a local main studio; (2) the elimination of the associated staffing and program origination capability requirements; (3) retention of the existing requirement that broadcasters maintain a local or toll-free telephone number; (4) a requirement that stations maintain any portion of their public file that is not part of the online public file at a publicly accessible location within the community of license, unless the current main studio is grandfathered as a permissible location for the station's local public file for the period before completion of the station's transition to the online public file because (a) the station currently maintains its local public file at a main studio that complies with the current main studio rule but is not within the station's community of license, or (b) the station has an existing waiver of the main studio rule that permits the station to maintain its public files at the station's main studio outside the community of license. The Chief Counsel for Advocacy of the Small Business Administration (SBA) did not file any comments in response to the proposed rules in this proceeding. Elimination of the existing requirements pertaining to the location of the main studio of each AM, FM, and television broadcast station, as well as the elimination of associated staffing and program origination requirements, will eliminate requirements that may be outdated and unnecessarily burdensome on all broadcast stations, including small entities. The Commission considered whether it should adopt additional requirements pertaining to publicizing or staffing the required telephone number or responding to time-sensitive or emergency information. While some commenters advocated such alternative approaches, the Commission concluded that the burdens of any such additional requirements are unjustified. Separately, while the Commission could simply adopt the requirement pertaining to the location of the public file, instead it has taken the alternate approach of providing broadcast stations with additional flexibility that will reduce costs by grandfathering certain existing studios as a permissible location for the station's local public file. In the R&O, the Commission explains its rejection of an alternate approach pursuant to which it could only eliminate the main studio rule for stations that have fully transitioned all public file material to the online public file material, stating that such an approach would disadvantage the smaller entities that may be most impacted by the costs of complying with the current main studio rule.

26. This document contains new information collection requirements subject to the Paperwork Reduction Act of 1995 (PRA), Public Law 104-13.³⁴ It will be submitted to OMB for review under section 3507(d) of the PRA. In addition, we note that pursuant to the Small Business Paperwork Relief Act of 2002, Public Law 107-198, we previously sought specific comment on how the Commission might further reduce the information collection burden for small business concerns with fewer than 25 employees.

³⁴ See attached Final Rules, revising §§ 73.3526(c)(1) and 73.3527(c)(1) of our rules to add, “The applicant, permittee, or licensee must provide information regarding the location of the file, or the applicable portion of the file, within one business day of a request for such information.” In addition to those new information collection requirements, which we will submit to OMB via a non-substantive change request, following adoption of this R&O the Commission also will submit to the Office of Management and Budget (OMB) a notice of discontinuance to reflect the deletion of the main studio rule and its associated information collection requirements.

27. The Commission will send a copy of this R&O in a report to be sent to Congress and the Government Accountability Office pursuant to the Congressional Review Act, see 5 U.S.C. 801(a)(1)(A).

28. Accordingly, it is ordered that, pursuant to the authority found in sections 4(i), 4(j), 303, 307(b), and 336(f) of the Communications Act of 1934, as amended, 47 U.S.C. 154(i), 154(j), 303, 307(b), and 336(f), this Report and Order is hereby adopted.

29. It is further ordered that parts 1 and 73 of the Commission's rules, 47 CFR parts 1 and 73, are amended, and such rule amendments shall be effective January 8, 2018, except for §§ 73.3526(c)(1) and 73.3527(c)(1), which contain new or modified information collection requirements, and which shall become effective after the Commission publishes a document in the Federal Register announcing OMB approval and the relevant effective date.

30. It is further ordered that the Commission shall send a copy of this Report and Order in a report to be sent to Congress and the Government Accountability Office pursuant to the Congressional Review Act, see 5 U.S.C. 801(a)(1)(A).

List of Subjects

47 CFR Part 1

Administrative practice and procedure, Penalties, Radio, Reporting and recordkeeping requirements, Television.

47 CFR Part 73

Radio, Reporting and recordkeeping requirements, Television.

Federal Communications Commission.
Katura Jackson,
Federal Register Liaison Officer, Office of the Secretary.

Final Rules

For the reasons discussed in the preamble, the Federal Communications Commission amends 47 CFR parts 1 and 73 as follows:

PART 1—PRACTICE AND PROCEDURE

1. The authority citation for part 1 continues to read as follows:

Authority: 47 U.S.C. 151, 154(i), 154(j), 155, 157, 160, 201, 225, 227, 303, 309, 310, 332, 1403, 1404, 1451, 1452, and 1455.

§ 1.80 [Amended]

2. In § 1.80, the table titled “Violations Unique to the Service” is amended by removing the entry for “Violation of main studio rule.”

§ 1.1104 [Amended]

3. In § 1.1104, the table is amended as follows:

a. Under “1. Commercial TV Services,” remove the entry for “c. Main Studio Request” and redesignate entries “d” through “k” as entries “c” through “j;”

b. Under “2. Commercial AM Radio Stations,” remove the entry for “c. Main Studio Request (per request)” and redesignate entries “d” through “l” as entries “c” through “k;”

c. Under “3. Commercial FM Radio Stations,” remove the entry for “c. Main Studio Request (per request)” and redesignate entries “d” through “l” as entries “c” through “k;” and

d. Under “8. Class A TV Services,” remove the entry for “g. Main Studio Request” and redesignate entry “h” as entry “g.”

PART 73—RADIO BROADCAST SERVICES

4. The authority citation for part 73 continues to read as follows:

Authority: 47 U.S.C. 154, 303, 309, 310, 334, 336, and 339.

5. In § 73.14, revise the definition of “Equipment performance measurements” to read as follows:

§ 73.14 AM broadcast definitions.

* * * * *

Equipment performance measurements. The measurements performed to determine the overall performance characteristics of a broadcast transmission system from point of program origination to sampling of signal as radiated. (See § 73.1590)

* * * * *

§ 73.761 [Amended]

6. In § 73.761, remove paragraph (d) and redesignate paragraphs (e) through (g) as paragraphs (d) through (f).

7. Revise § 73.1125 to read as follows:

§ 73.1125 Station telephone number.

Each AM, FM, TV, and Class A TV broadcast station shall maintain a local telephone number in its community of license or a toll-free number.

8. In § 73.1400, revise paragraph (a)(1)(ii) to read as follows:

§ 73.1400 Transmission system monitoring and control.

* * * * *

(a) * * *

(1) * * *

(ii) Remote control of the transmission system by a person at a studio or other location. The remote control system must provide sufficient transmission system monitoring and control capability so as to ensure compliance with § 73.1350.

* * * * *

9. Amend § 73.1690 as follows:

a. Revise paragraph (c)(8) introductory text;

b. Remove paragraph (c)(8)(ii);

c. Redesignate paragraphs (c)(8)(iii) through (vi) as paragraphs (c)(8)(ii) through (v);

d. Remove paragraph (d)(1);

e. Redesignate paragraphs (d)(2) and (3) as paragraphs (d)(1) and (2); and

f. Revise newly redesignated paragraph (d)(1).

The revisions read as follows.

§ 73.1690 Modification of transmission systems.

* * * * *

(c) * * *

(8) FM commercial stations and FM noncommercial educational stations may decrease ERP on a modification of license application provided that exhibits are included to demonstrate that all five of the following requirements are met:

* * * * *

(d) * * *

(1) Commencement of remote control operation pursuant to § 73.1400.

* * * * *

10. In § 73.3526:

a. Revise paragraphs (b)(1) and (2);

b. In paragraph (b)(3)(i), remove “the station” and add in its place “an accessible place in the community of license”; and

c. Revise paragraphs (b)(3)(ii) and (iii), (c)(1), (c)(2) introductory text, and (e)(4).

The revisions read as follows:

§ 73.3526 Local public inspection file of commercial stations.

* * * * *

(b) * * *

(1) For radio licensees temporarily exempt from the online public file hosted by the Commission, as discussed in paragraph (b)(2) of this section, a hard copy of the public inspection file shall be maintained at an accessible place in the community of license, unless the licensee elects voluntarily to place the file online as discussed in paragraph (b)(2) of this section. An applicant for a new station or change of community shall maintain its file at an accessible place in the proposed community of license. If as of January 8, 2018 a broadcast station maintains a hard copy of all or a portion of its public inspection file at a main studio that either complied with the Commission's main studio rule (47 CFR 73.1125 (2016)) but is not within the station's community of license, or was deemed a permissible location for the station's public inspection file pursuant to a waiver of the main studio rule, and if the station retains that studio, then that studio is a permissible location for the station's hard copy public inspection file. Any reference in this section to “an accessible place in the community of license” shall be deemed to include such a studio.

(2)(i) A television station licensee or applicant, and any radio station licensee or applicant not temporarily exempt as described in this paragraph (b)(2)(i), shall place the contents required by paragraph (e) of this section of its public inspection file in the online public file hosted by the Commission, with the exception of the political file as required by paragraph (e)(6) of this section, as discussed in paragraph (b)(3) of this section. Any radio station not in the top 50 Nielsen Audio markets, and any radio station with fewer than five full-time employees, shall continue to retain the public inspection file at an accessible place in the community of license in the manner discussed in paragraph (b)(1) of this section until March 1, 2018. However, any radio station that is not required to place its public inspection file in the online public file hosted by the Commission before March 1, 2018 may choose to do so, instead of retaining the public inspection file at an accessible place in the community of license in the manner discussed in paragraph (b)(1) of this section.

(ii) A station must provide a link to the public inspection file hosted on the Commission's Web site from the home page of its own Web site, if the station has a Web site, and provide contact information on its Web site for a station representative that can assist any person with disabilities with issues related to the content of the public files. A station also is required to include in the online public file the station's address and telephone number, and the email address of the station's designated contact for questions about the public file. To the extent this section refers to the local public inspection file, it refers to the public file of an individual station, which is either maintained at an accessible place in the community of license or on the Commission's Web site, depending upon where the documents are required to be maintained under the Commission's rules.

(3) * * *

(ii) Any television station not in the top 50 DMAs, and any station not affiliated with one of the top four broadcast networks, regardless of the size of the market it serves, shall continue to retain the political file at the station in the manner discussed in paragraph (b)(1) of this section until July 1, 2014. For these stations, effective July 1, 2014, any new political file material shall be placed in the online file hosted by the Commission, while the material in the political file as of July 1, 2014, if not placed in the Commission's Web site, shall continue to be retained at the station in the manner discussed in paragraph (b)(1) of this section until the end of its retention period. However, any station that is not required to place its political file in the online file hosted by the Commission before July 1, 2014 may choose to do so, instead of retaining the political file at the station in the manner discussed in paragraph (b)(1) of this section. For purposes of this paragraph (b)(3)(ii), the “manner discussed in paragraph (b)(1) of this section” refers to maintaining a hard copy of the public inspection file at the main studio of the station as described in paragraph (b)(1) prior to January 8, 2018. See 47 CFR 73.3526(b)(1) (2016).

(iii) Any radio station not in the top 50 Nielsen Audio markets, and any radio station with fewer than five full-time employees, shall continue to retain the political file at an accessible place in the community of license in the manner discussed in paragraph (b)(1) of this section until March 1, 2018. For these stations, effective March 1, 2018, any new political file material shall be placed in the online public file hosted by the Commission, while the material already existing in the political file as of March 1, 2018, if not placed in the online public file hosted by the Commission, shall continue to be retained at an accessible place in the community of license in the manner discussed in paragraph (b)(1) of this section until the end of its retention period. However, any station that is not required to place its political file on the Commission's Web site before March 1, 2018, may choose to do so, instead of retaining the political file at an accessible place in the community of license in the manner discussed in paragraph (b)(1) of this section.

* * * * *

(c) * * *

(1) For any applicant, permittee, or licensee that does not include all material described in paragraph (e) of this section in the online public file hosted by the Commission, the portion of the file that is not included in the online public file shall be available for public inspection at any time during regular business hours at an accessible place in the community of license. The applicant, permittee, or licensee must provide information regarding the location of the file, or the applicable portion of the file, within one business day of a request for such information. All or part of the file may be maintained in a computer database, as long as a computer terminal is made available, at the location of the file, to members of the public who wish to review the file. Material in the public inspection file shall be made available for printing or machine reproduction upon request made in person. The applicant, permittee, or licensee may specify the location for printing or reproduction, require the requesting party to pay the reasonable cost thereof, and may require guarantee of payment in advance (e.g., by requiring a deposit, obtaining credit card information, or any other reasonable method). Requests for copies shall be fulfilled within a reasonable period of time, which generally should not exceed 7 days.

(2) The applicant, permittee, or licensee who maintains its public file outside its community of license (see paragraph (b)(1) of this section) shall:

* * * * *

(e) * * *

(4) Contour maps. A copy of any service contour maps, submitted with any application tendered for filing with the FCC, together with any other information in the application showing service contours and/or transmitter location (State, county, city, street address, or other identifying information). These documents shall be retained for as long as they reflect current, accurate information regarding the station.

* * * * *

11. In § 73.3527, revise paragraphs (b)(1) and (2), (c)(1), (c)(2) introductory text, and (e)(3) to read as follows:

§ 73.3527 Local public inspection file of noncommercial educational stations.

* * * * *

(b) * * *

(1) For radio licensees, a hard copy of the public inspection file shall be maintained at an accessible place in the community of license until March 1, 2018, except that, as discussed in paragraph (b)(2)(ii) of this section, any radio station may voluntarily place its public inspection file in the online public file hosted by the Commission before March 1, 2018, if it chooses to do so, instead of retaining the file at an accessible place in the community of license. An applicant for a new station or change of community shall maintain its file at an accessible place in the proposed community of license. If as of January 8, 2018 a broadcast station maintains a hard copy of all or a portion of its public inspection file at a main studio that either complied with the Commission's main studio rule (47 CFR 73.1125 (2016)) but is not within the station's community of license, or was deemed a permissible location for the station's public inspection file pursuant to a waiver of the main studio rule, and if the station retains that studio, then that studio is a permissible location for the station's hard copy public inspection file. Any reference in this section to “an accessible place in the community of license” shall be deemed to include such a studio.

(2)(i) A noncommercial educational television station licensee or applicant shall place the contents required by paragraph (e) of this section of its public inspection file in the online public file hosted by the Commission, with the exception of the political file as required by paragraph (e)(5) of this section, which may be retained at the station in the manner discussed in paragraph (b)(1) of this section until July 1, 2014. Effective July 1, 2014, any new political file material shall be placed in the online public file hosted by the Commission, while the material in the political file as of July 1, 2014, if not placed in the Commission's online public file, shall continue to be retained at the station in the manner discussed in paragraph (b)(1) of this section until the end of its retention period. However, any noncommercial educational station that is not required to place its political file in the online public file hosted by the Commission before July 1, 2014 may choose to do so instead of retaining the political file at the station in the manner discussed in paragraph (b)(1) of this section. For purposes of this paragraph (b)(2)(i), the “manner discussed in paragraph (b)(1) of this section” refers to maintaining a hard copy of the public inspection file at the main studio of the station as described in paragraph (b)(1) prior to January 8, 2018. See 47 CFR 73.3527(b)(1) (2016).

(ii) Beginning March 1, 2018, noncommercial educational radio station licensees and applicants shall place the contents required by paragraph (e) of this section in the online public inspection file hosted by the Commission. For these stations, effective March 1, 2018, any new political file material shall be placed in the Commission's online public file, while the material in the political file as of March 1, 2018, if not placed in the Commission's online public file, shall continue to be retained at an accessible place in the community of license in the manner discussed in paragraph (b)(1) of this section until the end of its retention period. However, any radio station that is not required to place its public inspection file in the online public file hosted by the Commission before March 1, 2018, may choose to do so, instead of retaining the public inspection file at an accessible place in the community of license in the manner discussed in paragraph (b)(1) of this section.

(iii) A station must provide a link to the online public inspection file hosted by the Commission from the home page of its own Web site, if the station has a Web site, and provide contact information for a station representative on its Web site that can assist any person with disabilities with issues related to the content of the public files. A station also is required to include in the online public file hosted by the Commission the station's address and telephone number, and the email address of the station's designated contact for questions about the public file. To the extent this section refers to the local public inspection file, it refers to the public file of an individual station, which is either maintained at an accessible place in the community of license or on the Commission's Web site, depending upon where the documents are required to be maintained under the Commission's rules.

* * * * *

(c) * * *

(1) For any applicant, permittee, or licensee that does not include all material described in paragraph (e) of this section in the online public file hosted by the Commission, the portion of the file that is not included in the online public file shall be available for public inspection at any time during regular business hours at an accessible place in the community of license. The applicant, permittee, or licensee must provide information regarding the location of the file, or the applicable portion of the file, within one business day of a request for such information. All or part of the file may be maintained in a computer database, as long as a computer terminal is made available, at the location of the file, to members of the public who wish to review the file. Material in the public inspection file shall be made available for printing or machine reproduction upon request made in person. The applicant, permittee, or licensee may specify the location for printing or reproduction, require the requesting party to pay the reasonable cost thereof, and may require guarantee of payment in advance (e.g., by requiring a deposit, obtaining credit card information, or any other reasonable method). Requests for copies shall be fulfilled within a reasonable period of time, which generally should not exceed 7 days.

(2) The applicant, permittee, or licensee who maintains its public file outside its community of license (see paragraph (b)(1) of this section) shall:

* * * * *

(e) * * *

(3) Contour maps. A copy of any service contour maps, submitted with any application tendered for filing with the FCC, together with any other information in the application showing service contours and/or transmitter location (State, county, city, street address, or other identifying information). These documents shall be retained for as long as they reflect current, accurate information regarding the station.

* * * * *

12. In § 73.3538, revise paragraph (b) to read as follows:

§ 73.3538 Application to make changes in an existing station.

* * * * *

(b) An informal application filed in accordance with § 73.3511 is to be used to obtain authority to modify or discontinue the obstruction marking or lighting of the antenna supporting structure where that specified on the station authorization either differs from that specified in 47 CFR part 17, or is not appropriate for other reasons.

§ 73.3544 [Amended]

13. In § 73.3544, remove paragraph (b)(3) and redesignate paragraph (b)(4) as paragraph (b)(3).

14. Revise § 73.6000 to read as follows:

§ 73.6000 Definitions.

For the purpose of this subpart, the following definition applies:

Locally produced programming is programming:

(1) Produced within the predicted Grade B contour of the station broadcasting the program or within the contiguous predicted Grade B contours of any of the stations in a commonly owned group; or

(2) Produced within the predicted DTV noise-limited contour (see § 73.622(e)) of a digital Class A station broadcasting the program or within the contiguous predicted DTV noise-limited contours of any of the digital Class A stations in a commonly owned group.

Note to § 73.6000: See Report and Order, In the Matter of Establishment of a Class A Television Service, MM Docket No. 00-10, released April 4, 2000; Memorandum Opinion and Order on Reconsideration, In the Matter of Establishment of a Class A Television Service, MM Docket No. 00-10, released April 13, 2001; Report and Order, In the Matter of Elimination of Main Studio Rule, MB Docket No. 17-106, released October 24, 2017.

Alphabetical Index—[Amended]

15. In the alphabetical index for part 73, remove the entries for “Location, Main studio,” “Main studio location,” “Station, main studio location,” and “Studio location, Main.”

[FR Doc. 2017-24982 Filed 12-7-17; 8:45 am]

BILLING CODE 6712-01-P